DEPARTMENT OF JUSTICE

Drug Enforcement Administration

[Docket No. DEA-392]

Bulk Manufacturer of Controlled Substances Application: CreaGen Inc.

ACTION: Notice of application.

DATES: Registered bulk manufacturers of the affected basic classes, and applicants therefore, may file written comments on or objections to the issuance of the proposed registration on or before December 2, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 14, 2019, CreaGen Inc., 299 Washington Street, Unit A, Woburn, Massachusetts 01801-2795 applied to be registered as a bulk manufacturer of the following basic classes of controlled substances:

Controlled substance | Drug code | Schedule
4-Methyl-N-ethylcathinone (4-MEC) | 1249 | I
Aminorex | 1585 | I
APINACA and AKB48 (N-(1-Adamantyl)-1-pentyl-1H-indazole-3-carboxamide) | 7048 | I
JWH-018 (also known as AM678) (1-Pentyl-3-(1-naphthoyl)indole) | 7118 | I
3,4-Methylenedioxymethamphetamine | 7405 | I
5-Methoxy-N-N-dimethyltryptamine | 7431 | I
Alpha-methyltryptamine | 7432 | I
N-Benzylpiperazine | 7493 | I
2C-E (2-(2,5-Dimethoxy-4-ethylphenyl) ethanamine) | 7509 | I
25B-NBOMe (2-(4-bromo-2,5-dimethoxyphenyl)-N-(2-methoxybenzyl) ethanamine) | 7536 | I
alpha-pyrrolidinopentiophenone (α-PVP) | 7545 | I
AH-7921 (3,4-dichloro-N-[(1-dimethylamino)cyclohexylmethyl]benzamide)) | 9551 | I
Secobarbital | 2315 | II
Fentanyl | 9801 | II

The company plans to synthesize the above controlled substances for distribution to its research and forensic customers.

Dated: September 23, 2019.
Thomas W. Prevoznik,
Acting Assistant Administrator, Deputy Assistant Administrator.

[FR Doc. 2019-21311 Filed 9-30-19; 8:45 am]

BILLING CODE 4410-09-P